DEPARTMENT OF COMMERCE

National Oceanic and Atmospheric Administration

National Estuarine Research Reserve System

AGENCY: Office for Coastal Management, National Ocean Service, National Oceanic and Atmospheric Administration, U.S. Department of Commerce.

ACTION: Notice of public comment period for the Hudson River National Estuarine Research Reserve Management Plan revision.

SUMMARY: Notice is hereby given that the Office for Coastal Management, National Ocean Service, National Oceanic and Atmospheric Administration, U.S. Department of Commerce is announcing a thirty-day public comment period for the Hudson River National Estuarine Research Reserve Management Plan revision. The revision of the existing management plan is necessitated by the applicable requirements of the National Estuarine Research Reserve System. The Hudson River Reserve revised plan will replace the plan approved in 2009.

FOR FURTHER INFORMATION CONTACT: Nina Garfield at (240) 533-0817, or Kim Texeira at (240) 533-0781, of NOAA's Office for Coastal Management, 1305 East-West Highway, N/ORM5, 10th floor, Silver Spring, MD 20910.

SUPPLEMENTARY INFORMATION: Pursuant to 15 CFR 921.33(c), a state must periodically update its management plan for a National Estuarine Research Reserve. The Hudson River National Estuarine Research Reserve revised plan will replace the plan previously approved in 2009. NOAA issues this notice of a public comment period for the revised plan under 15 CFR 921.33(a).

The revised management plan outlines the administrative structure; the research/monitoring, stewardship, education, and training programs and priorities of the reserve; plans for including inholdings within the existing boundary into state ownership; and facility development priorities to support reserve operations.

The Hudson River Reserve takes an integrated approach to management, linking research and education, coastal training, and stewardship functions. The New York Department of Environmental Conservation has outlined how it will administer the reserve and its core programs by providing detailed actions that will enable it to accomplish specific goals and objectives. Since the last management plan, the reserve has: Provided technical expertise to coastal communities to reduce risks to natural hazards; expanded monitoring programs; installed a sentinel site for monitoring marsh ecosystem response to sea level rise; conducted training workshops; implemented K-12 and public education programs; installed a water level observation station that is compliant with NOAA's National Water Level Observation Network; restored hydrologic flows at Gay's Point in the Stockport Flats component; and established itself as a regional leader in the design and implementation of living shorelines. The total number of acres within the reserve boundary is 5,000 acres. The revised management plan will serve as the guiding document for the Hudson River Reserve for the next five years.

NOAA's Office Coastal Management will be conducting an environmental analysis in accordance with the National Environmental Policy Act on the proposed approval of the Reserve's revised management plan. The public is invited to provide comment or information about any potential environmental impacts of the proposed action, and these comments will be used to inform the decision making process.

The Hudson River Reserve Management Plan revision may be viewed at: https://www.dec.ny.gov/lands/4915.html. Comments on the revision may be submitted to the Reserve's Manager, Heather Gierloff (heather.gierloff@dec.ny.gov) by April 12, 2019.

Dated: March 5, 2019.
Paul M. Scholz,
Chief Financial Officer/Chief Administrative Officer, National Ocean Service, National Oceanic and Atmospheric Administration.

[FR Doc. 2019-04541 Filed 3-12-19; 8:45 am]

BILLING CODE 3510-08-P